DEPARTMENT OF STATE

[Public Notice: 12588]

Notice of Determinations; Additional Culturally Significant Objects Being Imported for Exhibition—Determinations: “Auschwitz-Birkenau Artifacts” Exhibition

SUMMARY: On June 19, 2019, notice was published in the Federal Register of determinations pertaining to certain objects to be included in an exhibition entitled “Auschwitz-Birkenau Artifacts.” Notice is hereby given of the following determinations: I hereby determine that certain additional objects being imported from abroad pursuant to an agreement with their foreign owner or custodian for temporary display in the aforesaid exhibition at the Holocaust Museum LA, in Los Angeles, California, and at possible additional exhibitions or venues yet to be determined, are of cultural significance, and, further, that their temporary exhibition or display within the United States as aforementioned is in the national interest. I have ordered that Public Notice of these determinations be published in the Federal Register.

FOR FURTHER INFORMATION CONTACT: Reed Liriano, Program Coordinator, Office of the Legal Adviser, U.S. Department of State (telephone: 202-632-6471; email: section2459@state.gov). The mailing address is U.S. Department of State, L/PD, 2200 C Street NW (SA-5), Suite 5H03, Washington, DC 20522-0505.

SUPPLEMENTARY INFORMATION: The foregoing determinations were made pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, Delegation of Authority No. 236-3 of August 28, 2000, and Delegation of Authority No. 523 of December 22, 2021. The notice of determinations published on June 19, 2019, appears at 84 FR 28610.

Nicole L. Elkon,
Deputy Assistant Secretary for Professional and Cultural Exchanges, Bureau of Educational and Cultural Affairs, Department of State.

[FR Doc. 2024-26901 Filed 11-18-24; 8:45 am]

BILLING CODE 4710-05-P